DEPARTMENT OF ENERGY

Federal Energy Regulatory Commission

[Docket No. RM01-10-007]

Standards of Conduct for Transmission Providers; Notice of Technical Conference and Workshop

February 23, 2006.

The Federal Energy Regulatory Commission (Commission) will hold a technical conference and workshop on Standards of Conduct for Transmission Providers and on April 7, 2006, in Phoenix/Scottsdale, Arizona. The meeting is expected to begin at 9:30 a.m. (MT) and conclude late afternoon. The details regarding the time and place will be provided in the near future. All interested persons are invited to attend.

The purpose of the conference and workshop is to discuss Standards of Conduct for Transmission Providers under Order No. 2004.¹ The Commission is hosting this conference and workshop to help provide guidance on complying with the Standards of Conduct that have been in effect since September 2004. Interested persons are invited to submit specific questions or issues that they would like to have addressed at the conference and workshop or other suggestions for the content of the program. Prospective attendees and participants are urged to watch for further notices; a detailed agenda will be issued in advance of the conference and workshop.

¹ Standards of Conduct for Transmission Providers, Order No. 2004, FERC Stats. & Regs., Regulations Preambles ¶ 31,155 (2003), order on reh'g, Order No. 2004-A, III FERC Stats. & Regs. ¶ 31,161 (2004), 107 FERC ¶ 61,032 (2004), order on reh'g, Order No. 2004-B, III FERC Stats. & Regs. ¶ 31,166 (2004), 108 FERC ¶ 61,118 (2004), order on reh'g, Order No. 2004-C, 109 FERC ¶ 61,325 (2004), order on reh'g, Order No. 2004-D, 110 FERC ¶ 61,320 (2005), National Fuel Gas Supply Corp., et al. v. FERC, Nos. 04-1188, et al. (D.C. Cir. Filed June 9, 2004).

There is no registration fee to attend this conference. However, we request that those planning to attend the conference register online on the Commission's Web site at http://www.ferc.gov/whats-new/registration/sc-0407-form.asp.

Questions on complying with the regulations, suggestions of issues to be addressed and requests to participate should be submitted by March 15, 2006. Questions about the conference and workshop, including requests to participate, should be directed to:

Demetra Anas, Office of Market Oversight and Investigations, Federal Energy Regulatory Commission, 888 First Street, NE., Washington, DC 20426, 202-502-8178, Demetra.Anas@ferc.gov.

Magalie R. Salas,
Secretary.

[FR Doc. E6-2873 Filed 2-28-06; 8:45 am]

BILLING CODE 6717-01-P